DEPARTMENT OF COMMERCE

National Oceanic and Atmospheric Administration

Public Comment for Enhancement of the initial Integrated Ocean Observing System (IOOS)

AGENCY: National Ocean Service, NOAA, Department of Commerce.

ACTION: Notice of opportunity for written public comment.

SUMMARY: This notice announces the opportunity for public comment on the planning process and plans for developing the U.S. Integrated Ocean Observing System (IOOS). IOOS is the U.S. contribution to the Global Ocean Observing System (GOOS) and the Global Earth Observing System of Systems (GEOSS).

DATES: A conference to complete a phased implementation plan for the IOOS has been scheduled for August 31 through September 1, 2004. Due to limited space, attendance is by invitation only. However, the public is invited to comment in writing on design plans and priorities for IOOS development. Planning documents that the conference will build on can be found at http://www.ocean.us/documents/componentsIOOS.jsp. Comments must be submitted by close of business on August 20, 2004 (w.fields@ocean.us, or Ms. Windy Fields, Ocean.US, 2300 Clarendon Blvd, Suite 1350, Arlington, VA 22201).

ADDRESSES: The meeting location is undisclosed.

FOR FURTHER INFORMATION CONTACT: For information regarding this notice, please contact Ms. Windy Fields, Ocean.US Telephone: (703) 588-0853. E-mail: w.fields@ocean.us.

SUPPLEMENTARY INFORMATION: See http://www.ocean.us.

Dated: July 29, 2004
Mary Leach,
Chief Financial Officer, Ocean Services and Coastal Management, National Oceanic and Atmospheric Administration.

[FR Doc. 04-17645 Filed 8-2-04; 8:45 am]

BILLING CODE 3510-JE-M